DEPARTMENT OF THE INTERIOR

[FWS-R4-ES-2019-N028; FVHC98220410150-XXX-FF04H00000]

Deepwater Horizon Oil Spill Final Restoration Plan 1 and Environmental Assessment, and Finding of No Significant Impact; Florida Trustee Implementation Group

AGENCY: Department of the Interior.

ACTION: Notice of availability.

SUMMARY: In accordance with the Oil Pollution Act of 1990 (OPA), the National Environmental Policy Act (NEPA), the Deepwater Horizon Oil Spill Final Programmatic Damage Assessment and Restoration Plan and Final Programmatic Environmental Impact Statement (Final PDARP/PEIS), and the Consent Decree, the Federal and State natural resource trustee agencies for the Florida Trustee Implementation Group (FL TIG) have prepared the Final Restoration Plan 1 and Environmental Assessment: Habitat Projects on Federally Managed Lands; Nutrient Reduction; Water Quality; and Provide and Enhance Recreational Opportunities (RP1/EA) and a Finding of No Significant Impact (FONSI). The Final RP1/EA describes the restoration project alternatives considered by the FL TIG intended to continue the process of restoring natural resources and services injured or lost as a result of the Deepwater Horizon oil spill, which occurred on or about April 20, 2010, in the Gulf of Mexico. The FL TIG evaluated these alternatives under criteria set forth in the OPA natural resource damage assessment (NRDA) regulations and evaluated the environmental consequences of the restoration alternatives in accordance with NEPA. The purpose of this notice is to inform the public of the availability of the Final RP1/EA.

ADDRESSES: Obtaining Documents: You may download the Final RP1/EA from either of the following websites:

• http://www.gulfspillrestoration .noaa.gov

• http://www.doi.gov/deepwaterhorizon/adminrecord

Alternatively, you may request a CD of the Final RP1/EA (see FOR FURTHER INFORMATION CONTACT).

FOR FURTHER INFORMATION CONTACT: Nanciann Regalado, via email at nanciann_regalado@fws.gov, via telephone at 678-296-6805, or via the Federal Relay Service at 800-877-8339.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest off shore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the Deepwater Horizon oil spill under the Oil Pollution Act (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The Deepwater Horizon Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The Trustees reached and finalized a settlement of their natural resource damage claims with BP in an April 4, 2016, Consent Decree approved by the U.S. District Court for the Eastern District of Louisiana. Pursuant to that Consent Decree, restoration projects in the Florida Restoration Area are now selected and implemented by the Florida Trustee Implementation Group (TIG). The FL TIG is composed of the following Trustees:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA); and

• State of Florida Department of Environmental Protection and Fish and Wildlife Conservation Commission.

Background

On November 4, 2016, the FL TIG posted a public notice at http://www.gulfspillrestoration.noaa.gov requesting new or revised natural resource restoration project ideas by December 5, 2016, for the Florida Restoration Area. The notice stated that the FL TIG was seeking project ideas for the following Restoration Types: (1) Habitat Projects on Federally Managed Lands; (2) Nutrient Reduction; (3) Water Quality; and (4) Provide and Enhance Recreational Opportunities.

On September 29, 2017, the FL TIG announced that it had initiated drafting of its first post-settlement draft restoration plan, and that the first plan would include restoration projects for Habitat Projects on Federally Managed Lands; Nutrient Reduction; Water Quality; and Provide and Enhance Recreational Opportunities.

The project submissions received through this process, along with projects previously submitted during prior restoration planning processes, resulted in the alternatives evaluated in the Draft RP1/EA.

The FL TIG released the Draft RP1/EA on September 20, 2018. Notice of availability of the Draft RP1/EA was published in the Federal Register on October 9, 2018 (83 FR 50679). The Draft RP1/EA provided the FL TIG's analysis of alternatives that would meet the Trustees' goals to restore and conserve habitat, restore water quality, and provide and enhance recreational opportunities under OPA and NEPA, and identified the alternatives that were proposed as preferred for implementation. The FL TIG provided the public with 99 days to review and comment on the Draft RP1/EA. To facilitate public understanding of the document, the FL TIG held a public meeting in Tallahassee on October 2, 2018, and a public webinar on December 13, 2018, and accepted public comments during both the meeting and the webinar. The FL TIG considered the public comments received, which informed the FL TIG's analysis of alternatives in the Final RP1/EA. A summary of the public comments received and the FL TIG's responses to those comments are addressed in Chapter 6 of the Final RP1/EA.

Overview of the FL TIG Final RP1/EA

The Final RP1/EA is being released in accordance with OPA, NRDA regulations found in the Code of Federal Regulations (CFR) at 15 CFR part 990, NEPA, the Consent Decree, and the Final PDARP/PEIS.

In the Final RP1/EA and FONSI, the FL TIG selected 23 restoration projects to be funded. Specifically, the FL TIG selected the following projects:

Habitat Projects on Federally Managed Lands

• Gulf Islands National Seashore (Florida) Night Sky Restoration (P&D),

• Gulf Islands National Seashore (Florida) Beach and Dune Habitat Protection,

• Gulf Islands National Seashore (Florida) Invasive Plant Removal, and

• St. Vincent National Wildlife Refuge Predator Control.

Nutrient Reduction

• Pensacola Bay and Perdido River Watersheds—Nutrient Reduction, and

• Lower Suwannee River Watershed—Nutrient Reduction.

Water Quality

• Carpenter Creek Headwaters Water Quality Improvements,

• Pensacola Beach Reclaimed Water System Expansion,

• Rattlesnake Bluff Road and Riverbank Restoration,

• Pensacola Bay Unpaved Roads Initiative (P&D),

• Alligator Lake Coastal Dune Lake Hydrologic Restoration,

• City of Port St. Joe Stormwater Improvements,

• City of Carrabelle's Lighthouse Estates: Septic Tank Abatement Phase II,

• Lower Suwannee National Wildlife Refuge Hydrologic Restoration (P&D), and

• Lower Charlotte Harbor Flatwoods Hydrologic Restoration Initiative, Yucca Pens Unit (P&D).

Provide and Enhance Recreational Opportunities

• Perdido River and Bay Paddle Trail,

• Carpenter Creek Headwaters Park Amenities,

• Gulf Islands National Seashore (Florida) Rehabilitation of Okaloosa Unit Recreational Facilities,

• Joe's Bayou Recreation Area Improvements,

• Topsail Hill Preserve State Park Improvements,

• Camp Helen State Park Improvements,

• St. Andrews State Park Improvements, and

• St. Marks National Wildlife Refuge Coastal Trail Connection, Spring Creek to Port Leon.

The FL TIG also analyzed nine additional alternatives, as well as a no action alternative. In accordance with NEPA, as part of the Final RP1/EA, the Trustees issued a FONSI. The FONSI is available in Appendix G of the Final RP1/EA.

The FL TIG determined that the restoration projects selected for funding will continue the process of restoring the natural resources injured or lost as a result of the Deepwater Horizon oil spill. The total estimated cost for the 23 selected restoration projects is $61,282,740. Additional restoration planning for the Florida Restoration Area will continue.

Administrative Record

The documents comprising the Administrative Record for the Draft RP1/EA can be viewed electronically at http://www.doi.gov/deepwaterhorizon/adminrecord.

Authority

The authority of this action is the Oil Pollution Act of 1990 (33 U.S.C. 2701 et seq.), and its implementing Natural Resource Damage Assessment regulations found at 15 CFR part 990, and the National Environmental Policy Act of 1969 (42 U.S.C. 4321 et seq.).

Mary Josie Blanchard,
Director of Gulf of Mexico Restoration, Department of the Interior.

[FR Doc. 2019-05377 Filed 3-20-19; 8:45 am]

BILLING CODE 4333-15-P